NUCLEAR REGULATORY COMMISSION

Agency Information Collection Activities: Proposed Collection; Comment Request

AGENCY: U.S. Nuclear Regulatory Commission (NRC).

ACTION: Notice of pending NRC action to submit an information collection request to OMB and solicitation of public comment.

SUMMARY: The NRC is preparing a submittal to OMB for review of continued approval of information collections under the provisions of the Paperwork Reduction Act of 1995 (44 U.S.C. Chapter 35).

Information pertaining to the requirement to be submitted:

1. The title of the information collection: NRC Form 7, “Application for NRC Export/Import License, Amendment, or Renewal,” formerly, “Application for License to Export Nuclear Equipment and Material.”

2. Current OMB approval number: 3150-0027.

3. How often the collection is required: On occasion; for each separate export, import, amendment, or renewal license application, and for exports of incidental radioactive material using existing general licenses.

4. Who is required or asked to report: Any person in the U.S. who wishes to export or import (a) nuclear material and equipment subject to the requirements of a specific license; (b) amend a license; (c) renew a license, and (d) for notification of incidental radioactive material exports that are contaminants of shipments of more than 100 kilograms of non-waste material using existing NRC general licenses.

5. The number of annual respondents: 319.

6. The number of hours needed annually to complete the requirement or request: 788 hours (2.4 hours per response).

7. Abstract: Persons in the U.S. wishing to export or import nuclear material and equipment requiring a specific authorization, amend or renew a license, or wishing to use existing NRC general licenses for the export of incidental radioactive material over 100 kilograms must file an NRC Form 7 application. The NRC Form 7 application will be reviewed by the NRC and by the Executive Branch, and if applicable statutory, regulatory, and policy considerations are satisfied, the NRC will issue an export, import, amendment or renewal license.

Submit, by March 27, 2006 comments that address the following questions:

1. Is the proposed collection of information necessary for the NRC to properly perform its functions? Does the information have practical utility?

2. Is the burden estimate accurate?

3. Is there a way to enhance the quality, utility, and clarity of the information to be collected?

4. How can the burden of the information collection be minimized, including the use of automated collection techniques or other forms of information technology?

A copy of the draft supporting statement may be viewed free of charge at the NRC Public Document Room, One White Flint North, 11555 Rockville Pike, Room 0-1 F21, Rockville, MD 20852. OMB clearance requests are available at the NRC worldwide Web site http://www.nrc.gov/public-involve/doc-comment/omb/index.html. The document will be available on the NRC home page site for 60 days after the signature date of this notice.

Comments and questions about the information collection requirements may be directed to the NRC Clearance Officer, Brenda J. Shelton, (T-5 F52), U.S. Nuclear Regulatory Commission, Washington, DC 20555-0001, or by telephone at 301-415-7233, or by Internet electronic mail to INFOCOLLECTS@NRC.GOV.

Dated at Rockville, Maryland, this 19th day of January 2006.
For the Nuclear Regulatory Commission.
Brenda J. Shelton,
NRC Clearance Officer, Office of Information Services.

[FR Doc. E6-887 Filed 1-24-06; 8:45 am]

BILLING CODE 7590-01-P